FEDERAL COMMUNICATIONS COMMISSION

Notice of Public Information Collection(s) Being Submitted for Review to the Office of Management and Budget

July 21, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 25, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-1094.

Title: Licensing, Operation, and Transition of the 2500-2690 MHz Band.

Form No.: N/A.

Type of Review: Revision of a currently approved collection.

Respondents: Business or other for-profit.

Number of Respondents: 2,500 respondents; 12,726 responses.

Estimated Time per Response: .25-5 hours average burden per response.

Frequency of Response: On occasion and one-time reporting requirements, recordkeeping requirement, and third party disclosure requirement.

Obligation to Respond: Required to obtain or retain benefits.

Total Annual Burden: 8,457 hours.

Total Annual Cost: $266,666.

Privacy Act Impact Assessment: N/A.

Nature and Extent of Confidentiality: The revised information collection requirements provides that information provided pursuant to the new requirement shall not be disclosed to additional parties except to the extent necessary to ensure compliance with the rule.

Needs and Uses: The Commission will submit this information collection (IC) to the OMB as a revision during this comment period to obtain the full three-year clearance from them.The FCC adopted and released a Fourth Memorandum Opinion and Order (2008 Order) in FCC 08-83, which proposes to extend and modify existing reporting and third party disclosure requirements such that licensees will, pursuant to Section 27.1221(f) of the Commission's rules, be required to provide the geographic coordinates, the height above ground level of the center of radiation for each transmit and receive antenna, and the date transmissions commenced for each of the base stations in its Geographic Service Area (GSA) within 30 days of receipt of a request from a co-channel, neighboring Broadband Radio Service/Educational Broadband Service (BRS/EBS) licensee. This information will be used to prevent harmful interference to licensees' BRS/EBS operations. Since BRS/EBS licensees will be providing this technical information to a third party, the information will not be used by the Commission unless submitted by the parties pursuant to an interference complaint. This additional requirement will add an additional .50 hours per licensee for reporting and recordkeeping requirements with an average of up to 250 responses to the current information collection burden for wireless service providers. Finally, the Commission is removing the requirement for the MVPD Opt Out (Waiver Request) provision that was approved by OMB the last time this collection was submitted to the OMB for approval. This voluntary deadline for filing waiver requests ended on April 30, 2007. Therefore, the Commission is reporting −3 hours in annual burden and −$6,668 in annual costs (program change reductions) to remove this requirement from this information collection.

OMB Control Number: 3060-1039.

Title: Nationwide Programmatic Agreement Regarding the Section 106 National Historic Preservation Act—Review Process, WT Docket No. 03-128.

Form Nos.: FCC Forms 620 and 621.

Type of Review: Revision of a currently approved collection.

Respondents: Business or other for-profit, not-for-profit institutions, and state, local or tribal government.

Number of Respondents: 12,000 respondents; 12,000 responses.

Estimated Time per Response: .50-10 hours average burden per response.

Frequency of Response: On occasion reporting requirement, recordkeeping requirement, and third party disclosure requirement.

Obligation to Respond: Required to obtain or retain benefits.

Total Annual Burden: 123,888 hours.

Total Annual Cost: $9,253,296.

Privacy Act Impact Assessment: N/A.

Nature and Extent of Confidentiality: This information collection in general requires no need for confidentiality. On a case by case basis, the Commission may be required to withhold from disclosure certain information about the location, character, or ownership of a historic property, including traditional religious sites. (See 16 U.S.C. Section 470w-3.)

Needs and Uses: The Commission will submit this information collection (IC) to the OMB as a revision during this comment period to obtain the full three-year clearance from them. There has been no change in the estimated number of respondents/responses, burden hours or annual costs.

The Commission is currently revising this form to make it available in electronic format or developing a means of filing these forms electronically via the Tower Construction Notification System (TCNS). The Commission has conducted extensive public outreach sessions for the revised forms and screen designs. While the outreach did not result in specific changes to the forms, we did streamline some of our screen design and add clarifications to the forms. In this latest revision, to alleviate numerous attachments, the Commission is adding the following data elements to the FCC Form 620:

• Consultant FCC Registration Number (FRN).

• TCNS Notification Number.

• Site Name of Structure.

• Tribal/NHO Involvement.

• Historic Properties.

• Local Government Involvement.

• Other Consulting Parties.

• Designation of SHPO/THPO.

The following data elements are being added to the FCC Form 621:

• Consultant FCC Registration Number (FRN).

• TCNS Notification Number.

• Secondary TCNS Notification Number.

• Site Name of Structure.

• Tribal/NHO Involvement.

• Historic Properties.

• Local Government Involvement.

• Other Consulting Parties.

• Designation of SHPO/THPO.

The data is used by FCC staff, State Historic Preservation Officers (SHPO), Tribal Historic Preservation Officers (THPO) and the Advisory Council on Historic Preservation (ACHP) to take such action as may be necessary to ascertain whether a proposed action may affect historic properties that are listed or eligible for listing in the National Register as directed by Section 106 of the NHPA and the Commission's rules.

Federal Communications Commission.
Marlene H. Dortch,
Secretary.

[FR Doc. E8-17100 Filed 7-24-08; 8:45 am]

BILLING CODE 6712-01-P